DEPARTMENT OF HEALTH AND HUMAN SERVICES

National Institutes of Health

Public Health Service and National Institute of Environmental Health Sciences; Notice of a Meeting of the Scientific Advisory Committee on Alternative Toxicological Methods

December 5, 2002.

Pursuant to section 10(a) of the Federal Advisory Committee Act, as amended (5 U.S.C. appendix 2), notice is hereby given of a meeting of the Scientific Advisory Committee on Alternative Toxicological Methods (SACATM) beginning at 9 AM on December 5, 2002, in Salon C at the Crystal Gateway Marriott, 1700 Jefferson Davis Highway, Arlington, Virginia.

Background

The SACATM was chartered January 9, 2002, to fulfill section 3(d) of Public Law 106-545, the ICCVAM Authorization Act of 2000 [42 U.S.C. 285l-3(d)] and is composed of scientists from the public and private sectors (Federal Register: March 13, 2002: Vol. 67, No. 49, page 11358). The SACATM provides advice to the Director of the National Institute of Environmental Health Sciences (NIEHS), the Interagency Coordinating Committee on the Validation of Alternative Toxicological Methods (ICCVAM), and the National Toxicology Program (NTP) Interagency Center for the Evaluation of Alternative Toxicological Methods (NICEATM) regarding statutorily mandated duties of the ICCVAM and activities of the NICEATM. The committee's charter is posted on the Web at http://iccvam.niehs.nih.gov and is available in hard copy upon request from the NTP Executive Secretary (NTP Liaison and Scientific Review Office, NIEHS, PO Box 12233, Research Triangle Park, NC 27709; telephone: 919-541-0530; facsimile: 919-541-0295 or wolfe.niehs.nih.gov).

Agenda

The meeting is being held on December 5, 2002, from 9 AM until adjournment and is open to the public with attendance limited only by the space available. Although not required, pre-registration is preferred to assist in planning for adequate space. To pre-register for this meeting, please contact the NTP Executive Secretary (contact information above). Individuals who plan to attend and need special assistance, such as sign language interpretation or other reasonable accommodations, are asked to notify the executive secretary.

A preliminary agenda is provided below. Relevant documents and publications about the test methods and the validation and acceptance criteria being discussed are available on the NICEATM/ICCVAM Web site at: http://iccvam.niehs.nih.gov (select Documents and Publications).

Preliminary Agenda

Scientific Advisory Committee on Alternative Toxicological Methods

December 5, 2002.

Salon C, Crystal Gateway Marriott (703-920-3230), 1700 Jefferson Davis Highway, Arlington, Virginia, Crystal City Metro Stop.

9:00 a.m.

Welcome and Introductions

Informational Overviews of NIEHS, NTP, NICEATM, and ICCVAM

ICCVAM Validation and Acceptance Criteria

Current Scientific Directions of the European Centre for Validation of Alternative Methods (ECVAM)

Linkage of Scientific Directions between ECVAM and ICCVAM

• Public comment

12:15 p.m.

Lunch break

1:15 p.m.

Test Method Submissions and Proposed Nomination and Prioritization Process

• Public comment

In-Vitro Acute Toxicity Testing Methods

• Public comment

In-Vitro Estrogen/Androgen Receptor Binding and Transcriptional Activation

Assays

• Public comment

Other Business

5:00 p.m.

Adjourn

A copy of the agenda, committee roster, and any additional information, when available, will be posted on the NTP Web site (http://ntp-server.niehs.nih.gov) or available upon request to the NTP Executive Secretary (contact information provided above). Following the meeting, summary minutes will be prepared and available through the NICEATM/ICCVAM Web site (http://iccvam.niehs.nih.gov) and upon request to the NTP Liaison and Scientific Review Office (contact information above).

Public Comment Welcome

Public input at this meeting is invited and time is set aside for the presentation of public comments on any agenda topic. Each organization is allowed one time slot per agenda topic. At least 7 minutes will be allotted to each speaker, and if time permits, may be extended to 10 minutes. In order to facilitate planning for this meeting, persons wishing to make an oral presentation are asked to notify the NTP Executive Secretary (contact information above) by November 28, 2002, and to provide their name, affiliation, mailing address, phone, fax, e-mail, and sponsoring organization (if any). Registration for oral comments will also be available on-site, although time allowed for presentation by on-site registrants may be less then that for pre-registered speakers and will be determined by the number of persons who register at the meeting.

Persons registering to make oral comments are asked, if possible, to provide a copy of their statement to the NTP Executive Secretary (contact information above) by November 28, to enable review by the SACATM and NIEHS/NTP staff prior to the meeting. Written statements can supplement and may expand the oral presentation. If registering on-site and reading from written text, please bring 50 copies of the statement for distribution to the SACATM and NIEHS/NTP staff and to supplement the record.

Persons may also submit written comments in lieu of making oral comments. Written comments should be sent to the NTP Executive Secretary and should be received by November 28 to enable review by the SACATM and NIEHS/NIH prior to the meeting. Persons submitting written comments should include their name, affiliation, mailing address, phone, fax, e-mail, and sponsoring organization (if any) with the document.

Dated: October 24, 2002.
Samuel Wilson,
Deputy Director, National Institute of Environmental Health Sciences.

[FR Doc. 02-27902 Filed 11-1-02; 8:45 am]

BILLING CODE 4140-01-P